DEPARTMENT OF COMMERCE

Foreign-Trade Zones Board

[B-74-2015]

Foreign-Trade Zone 191—Palmdale, California; Application for Reorganization under Alternative Site Framework

An application has been submitted to the Foreign-Trade Zones (FTZ) Board by the City of Palmdale, California, grantee of FTZ 191, requesting authority to reorganize the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on November 5, 2015.

FTZ 191 was approved by the FTZ Board on January 15, 1993 (Board Order 628, 58 FR 6614, February 1, 1993) and expanded on November 4, 2002 (Board Order 1252, 67 FR 69715, November 19, 2002) and January 22, 2004 (Board Order 1318, 69 FR 6252, February 10, 2004).

The current zone includes the following sites: Site 1 (800 acres)—Lockheed Martin Aeronautics Project/Palmdale Regional Airport, Sierra Highway and Avenue M, Palmdale; Site 2 (87 acres)—Antelope Valley Business Park, 10th Street West and Avenue M, Palmdale; Site 3 (30 acres)—Freeway Business Center, West Avenue N and 12th Street West, Palmdale; Site 4 (70 acres)—Palmdale Trade & Commerce Center, Avenue Q and 5th Street West, Palmdale; Site 5 (118. 2 acres)—Fairway Business Park, Division Street and Avenue O, Palmdale; Site 6 (140 acres)—Sierra Gateway Center, Sierra Highway and Avenue O-8, Palmdale; Site 7 (15 acres)—Pacific Business Park, 30th Street East and Avenue Q, Palmdale; Site 8 (20 acres) Winnell Industrial Park, 3rd Street East and Avenue P, Palmdale; Site 9 (33 acres)—Park One Industrial Center, 10th Street East and Avenue P, Palmdale; Site 10 (40 acres)—California City Industrial Park, Lindbergh Boulevard and Gnatt Boulevard, California City; Site 11 (91 acres)—Mojave Airport, Poole Street and Airport Boulevard, Mojave; and, Site 12 (2.6 acres)—AMS Fulfillment, 29010 Commerce Center Drive, Valencia.

The grantee's proposed service area under the ASF would be portions of Los Angeles County, California, as described in the application. If approved, the grantee would be able to serve sites throughout the service area based on companies' needs for FTZ designation. The proposed service area is adjacent to the Los Angeles/Long Beach U.S. Customs and Border Protection port of entry.

The applicant is requesting authority to reorganize its zone to include existing Site 1 and Site 5 as “magnet” sites and existing Site 12 as a “usage-driven” site. Additionally, as part of the reorganization, the applicant has requested that acreage be reduced at Site 1 (to 509.57 acres) and that Sites 2, 3, 4, 6, 7, 8, 9, 10 and 11 be removed from the zone due to changed circumstances. The ASF allows for the possible exemption of one magnet site from the “sunset” time limits that generally apply to sites under the ASF, and the applicant proposes that Site 1 be so exempted. No additional subzones/usage-driven sites are being requested at this time. The application would have no impact on FTZ 191's previously authorized subzone.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary at the address below. The closing period for their receipt is January 11, 2016. Rebuttal comments in response to material submitted during the foregoing period may be submitted during the subsequent 15-day period to January 26, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Christopher Kemp at Christopher.Kemp@trade.gov or (202) 482-0862.

Dated: November 5, 2015.
Elizabeth Whiteman,
Acting Executive Secretary.

[FR Doc. 2015-28761 Filed 11-10-15; 8:45 am]

BILLING CODE 3510-DS-P